DEPARTMENT OF ENERGY

Federal Energy Regulatory Commission

Combined Notice of Filings #1

Take notice that the Commission received the following electric corporate filings:

Docket Numbers: EC13-84-000.

Applicants: Pioneer Plains Wind Holdings, LLC, Blackwell Wind, LLC, Minco Wind III, LLC.

Description: Application of Pioneer Plains Wind Holdings, LLC, et. al. for Authorization Under Section 203 of the Federal Power Act and Request for Expedited Action.

Filed Date: 3/25/13.

Accession Number: 20130325-5158.

Comments Due: 5 p.m. ET 4/15/13.

Take notice that the Commission received the following electric rate filings:

Docket Numbers: ER10-2418-001.

Applicants: GP Big Island, LLC.

Description: Compliance filing to 8202013 to be effective 11/17/2010.

Filed Date: 3/26/13.

Accession Number: 20130326-5022.

Comments Due: 5 p.m. ET 4/16/01.

Docket Numbers: ER10-3178-001.

Applicants: Windstar Energy, LLC.

Description: Notice of Change in Status and Waiver Request of Certain Reporting Requirements of Windstar Energy, LLC.

Filed Date: 3/25/13.

Accession Number: 20130325-5212.

Comments Due: 5 p.m. ET 4/15/13.

Docket Numbers: ER11-2780-011.

Applicants: Safe Harbor Water Power Corporation.

Description: Notice of Change in Status of Safe Harbor Water Power Corporation.

Filed Date: 3/25/13.

Accession Number: 20130325-5166.

Comments Due: 5 p.m. ET 4/15/13.

Docket Numbers: ER11-3417-003; ER10-2895-006; ER11-2292-005; ER11-3942-004; ER11-2293-005; ER10-2917-006; ER11-2294-005; ER12-2447-003; ER10-2918-007; ER12-199-006; ER10-2920-006; ER10-1900-004; ER11-3941-004; ER10-2921-006; ER10-2922-006; ER10-3048-004; ER10-2966-006.

Applicants: Alta Wind VIII, LLC, Bear Swamp Power Company LLC, Brookfield Energy Marketing, Inc., Brookfield Energy Marketing LP, Brookfield Energy Marketing US LLC, Brookfield Renewable Energy Marketing US, LLC, Brookfield Smoky Mountain Hydropower LLC, Carr Street Generating Station, L.P., Coram California Development, L.P., Erie Boulevard Hydropower, L.P., FPL Energy Maine Hydro, LLC, Granite Reliable Power, LLC, Great Lakes Hydro America LLC, Hawks Nest Hydro LLC, Longview Fibre Paper and Packaging, Inc., Rumford Falls Hydro LLC, Brookfield Power Piney & Deep Creek LLC.

Description: Notice of Change in Status of the Brookfield Companies.

Filed Date: 3/25/13.

Accession Number: 20130325-5210.

Comments Due: 5 p.m. ET 4/15/13.

Docket Numbers: ER13-135-001.

Applicants: Brunswick Cellulose LLC.

Description: Compliance filing to be effective 10/17/2012.

Filed Date: 3/26/13.

Accession Number: 20130326-5196.

Comments Due: 5 p.m. ET 4/16/13.

Docket Numbers: ER13-136-001.

Applicants: Georgia-Pacific Brewton LLC.

Description: Compliance filing to be effective 10/17/2012.

Filed Date: 3/26/13.

Accession Number: 20130326-5174.

Comments Due: 5 p.m. ET 4/16/13.

Docket Numbers: ER13-137-001.

Applicants: Georgia-Pacific Cedar Springs LLC.

Description: Georgia-Pacific Cedar Springs LLC submits Compliance filing to be effective 10/17/2012.

Filed Date: 3/26/13.

Accession Number: 20130326-5203.

Comments Due: 5 p.m. ET 4/16/13.

Docket Numbers: ER13-138-001.

Applicants: Georgia-Pacfic Consumer Operations LLC, Palatka.

Description: Georgia-Pacfic Consumer Operations LLC, Palatka submits Compliance filing to be effective 10/17/2012.

Filed Date: 3/26/13.

Accession Number: 20130326-5220.

Comments Due: 5 p.m. ET 4/16/13.

Docket Numbers: ER13-140-001.

Applicants: Georgia-Pacific Consumer Operations LLC, Port Hudson.

Description: Georgia-Pacific Consumer Operations LLC, Port Hudson submits Compliance filing to be effective 10/17/2012.

Filed Date: 3/26/13.

Accession Number: 20130326-5215.

Comments Due: 5 p.m. ET 4/16/13.

Docket Numbers: ER13-141-001.

Applicants: Georgia-Pacific Consumer Products LP, Naheola.

Description: Georgia-Pacific Consumer Products LP, Naheola submits Compliance filing to be effective 10/17/2012.

Filed Date: 3/26/13.

Accession Number: 20130326-5211.

Comments Due: 5 p.m. ET 4/16/13.

Docket Numbers: ER13-142-001.

Applicants: Georgia-Pacific Consumer Products LP Savannah.

Description: Georgia-Pacific Consumer Products LP Savannah submits tariff filing per 35: Compliance filing to be effective 10/17/2012.

Filed Date: 3/26/13.

Accession Number: 20130326-5218.

Comments Due: 5 p.m. ET 4/16/13.

Docket Numbers: ER13-143-001.

Applicants: Georgia-Pacific LLC, Crossett.

Description: Compliance filing to be effective 10/17/2012.

Filed Date: 3/26/13.

Accession Number: 20130326-5197.

Comments Due: 5 p.m. ET 4/16/13.

Docket Numbers: ER13-144-001.

Applicants: Georgia-Pacific Monticello LLC.

Description: Georgia-Pacific Monticello LLC submits Compliance filing to be effective 10/17/2012.

Filed Date: 3/26/13.

Accession Number: 20130326-5208.

Comments Due: 5 p.m. ET 4/16/13.

Docket Numbers: ER13-145-001.

Applicants: Leaf River Cellulose, LLC.

Description: Leaf River Cellulose, LLC submits Compliance filing to be effective 10/17/2012.

Filed Date: 3/26/13.

Accession Number: 20130326-5204.

Comments Due: 5 p.m. ET 4/16/13.

Docket Numbers: ER13-146-001.

Applicants: Georgia-Pacific Toledo LLC.

Description: Georgia-Pacific Toledo LLC submits Compliance filing to be effective 10/17/2012.

Filed Date: 3/26/13.

Accession Number: 20130326-5212.

Comments Due: 5 p.m. ET 4/16/13.

Docket Numbers: ER13-147-001.

Applicants: Georgia-Pacific Consumer Products LP, Muskogee.

Description: Georgia-Pacific Consumer Products LP, Muskogee submits Compliance filing to be effective 10/17/2012.

Filed Date: 3/26/13.

Accession Number: 20130326-5206.

Comments Due: 5 p.m. ET 4/16/13.

Docket Numbers: ER13-148-001.

Applicants: Georgia-Pacific Consumer Products LP, Green Bay West.

Description: Georgia-Pacific Consumer Products LP, Green Bay West submits Compliance filing to be effective 10/17/2012.

Filed Date: 3/26/13.

Accession Number: 20130326-5199.

Comments Due: 5 p.m. ET 4/16/13.

Docket Numbers: ER13-797-002.

Applicants: EBRFUEL, LLC.

Description: EBRFUEL, LLC, FERC Electric Tariff to be effective 4/1/2013.

Filed Date: 3/26/13.

Accession Number: 20130326-5190.

Comments Due: 5 p.m. ET 4/16/13.

Docket Numbers: ER13-1163-000.

Applicants: Arizona Public Service Company.

Description: Palo Verde-Morgan 500kV Transmission Project Joint Participation Agreement to be effective 5/24/2013.

Filed Date: 3/25/13.

Accession Number: 20130325-5108.

Comments Due: 5 p.m. ET 4/15/13.

Docket Numbers: ER13-1164-000.

Applicants: American Electric Power Service Corporation, Ohio Power Company, PJM Interconnection, L.L.C.

Description: AEP submits new RAA Schedule 8.1 Appendix-Ohio Power Company FRR Capacity Rate to be effective 8/8/2012.

Filed Date: 3/25/13.

Accession Number: 20130325-5148.

Comments Due: 5 p.m. ET 4/15/13.

Take notice that the Commission received the following open access transmission tariff filings:

Docket Numbers: OA13-3-000.

Applicants: New York Independent System Operator, Inc.

Description: Annual Compliance Report Regarding Unreserved Use and Late Study Penalties of the New York Independent System Operator, Inc.

Filed Date: 3/26/13.

Accession Number: 20130326-5255.

Comments Due: 5 p.m. ET 4/16/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 26, 2013.
Nathaniel J. Davis, Sr.,
Deputy Secretary.

[FR Doc. 2013-07587 Filed 4-1-13; 8:45 am]

BILLING CODE 6717-01-P